DEPARTMENT OF COMMERCE

International Trade Administration

[A-580-881]

Certain Cold Rolled Steel Flat Products From the Republic of Korea: Final Results of Antidumping Duty Administrative Review; 2017-2018

AGENCY: Enforcement and Compliance, International Trade Administration, Department of Commerce.

SUMMARY: The Department of Commerce (Commerce) determines that Hyundai Steel Company (Hyundai) and POSCO/POSCO Daewoo Co., Ltd. (POSCO/PDW), producers/exporters of certain cold rolled steel flat products (cold-rolled steel) from the Republic of Korea (Korea), did not sell subject merchandise in the United States at prices below normal value during the period of review (POR) September 1, 2017 through August 31, 2018.

DATES: Applicable July 13, 2020.

FOR FURTHER INFORMATION CONTACT: Michael J. Heaney or Marc Castillo, AD/CVD Operations, Office VI, Enforcement and Compliance, International Trade Administration, U.S. Department of Commerce, 1401 Constitution Avenue NW, Washington, DC 20230; telephone: (202) 482-4475 or (202) 482-0519, respectively.

SUPPLEMENTARY INFORMATION:

Background

On November 18, 2019, Commerce published the Preliminary Results of this administrative review.¹ For a history of events that occurred since the Preliminary Results, see the Issues and Decision Memorandum.² We invited interested parties to comment on the Preliminary Results. Between January 3, 2020 and January 13, 2020, Commerce received timely filed case briefs and rebuttal briefs from various interested parties.

¹ See Certain Cold Rolled Steel Flat Products from the Republic of Korea: Preliminary Results of Antidumping Duty Administrative Review; 2017-2018, 84 FR 63607 (November 18, 2019) (Preliminary Results) and accompanying Preliminary Decision Memorandum (PDM).

² See Memorandum, “Issues and Decision Memorandum for the Final Results of the 2017-2018 Administrative Review of the Antidumping Duty Order on Certain Cold-Rolled Steel Flat Products from the Republic of Korea,” dated concurrently with, and hereby adopted by, this notice (Issues and Decision Memorandum).

On March 12, 2020, we extended the deadline for the final results.³ On April 24, 2020, Commerce tolled all deadlines in administrative reviews by 50 days, thereby extending these final results until July 6, 2020.⁴

³ See Memorandum, “Certain Cold-Rolled Steel Flat Products from the Republic of Korea: Extension of Deadline for Final Results of Antidumping Duty Administrative Review,” dated March 12, 2020.

⁴ See Memorandum, “Tolling of Deadlines for Antidumping and Countervailing Duty Administrative Reviews in Response to Operational Adjustments Due to COVID-19,” dated April 24, 2020.

Commerce conducted this review in accordance with section 751(a) of the Tariff Act of 1930, as amended (the Act).

Scope of the Order

The product covered by the Order ⁵ is cold-rolled steel the Republic of Korea. For a complete description of the scope of the Order, see the Issues and Decision Memorandum.

⁵ See Certain Cold Rolled Steel Flat Products from Brazil, India, the Republic of Korea, and the United Kingdom: Amended Final Affirmative Antidumping Determinations for Brazil and the United Kingdom and Antidumping Duty Orders, 81 FR 64432 (September 20, 2016) (Order).

Analysis of Comments Received

All issues raised in the case and rebuttal briefs filed by parties in this review are addressed in the Issues and Decision Memorandum, which is hereby adopted with this notice. The issues are identified in the Appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly on the internet at http://enforcement.trade.gov/frn/index.html. The signed Issues and Decision Memorandum and the electronic version are identical in content.

Changes Since the Preliminary Results

Based on our analysis of the comments received, we made certain changes to the margin calculations for POSCO/PDW and Hyundai Steel. For a discussion of these changes, see the Issues and Decision Memorandum.

Rates for Non-Examined Companies

The Act and Commerce's regulations do not address the establishment of a rate to be applied to companies not selected for individual examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted average of the estimated weighted-average dumping margins established for exporters and producers individually investigated, excluding any zero or de minimis margins, and any margins determined entirely {on the basis of facts available}.”

For these final results, we have calculated 0.00 percent weighted-average dumping margins for both Hyundai and POSCO/PDW, and we have not calculated any margins which are not zero, de minimis, or determined entirely on the basis of facts available. Accordingly, we have assigned to the companies not individually examined (i.e., Dongbu Steel Co., Ltd. and Dongbu Steel Incheon Steel Co., Ltd.) a margin of 0.00 percent, which is the average of the margins calculated for POSCO/PDW and Hyundai.

Results of Review

Commerce determines that the following weighted-average dumping margins exist for the period September 1, 2017 through August 31, 2018:

Producer/Exporter | Weighted- average dumping margin (percent)
Hyundai Steel Company | 0.00
POSCO/POSCO Daewoo Co., Ltd | 0.00
Non-Examined Companies | 0.00

Disclosure

Commerce intends to disclose the calculations performed for these final results of review within five days of the date of publication of this notice in the Federal Register, in accordance with 19 CFR 351.224(b).

Assessment

Pursuant to section 751(a)(2)(C) of the Act and 19 CFR 351.212(b), Commerce shall determine, and U.S. Customs and Border Protection (CBP) shall assess, antidumping duties on all appropriate entries of subject merchandise in accordance with the final results of this review. Commerce intends to issue assessment instructions to CBP 15 days after the date of publication of the final results of this administrative review in the Federal Register.

Where a respondent reported reliable entered values of their U.S. sales, we calculated importer- (or customer-) specific ad valorem assessment rates by aggregating the dumping margins calculated for all U.S. sales to each importer (or customer) and dividing this amount by the total entered value of the sales to each importer (or customer).⁶ Where Commerce calculated a weighted-average dumping margin by dividing the total amount of dumping for reviewed sales to that party by the total sales quantity associated with those transactions, Commerce intends to direct CBP to assess importer- (or customer-) specific assessment rates based on the resulting per-unit rates.⁷ Where an importer- (or customer-) specific ad valorem or per-unit rate is greater than de minimis (i.e., 0.50 percent), Commerce intends to instruct CBP to collect the appropriate duties at the time of liquidation.⁸ Where an importer- (or customer-) specific ad valorem or per-unit rate is zero or de minimis, Commerce intends to instruct CBP to liquidate appropriate entries without regard to antidumping duties.⁹

⁶ See 19 CFR 351.212(b)(1).

⁷ Id.

⁸ Id.

⁹ See 19 CFR 351.106(c)(2).

For the companies which were not selected for individual review, we intend to assign an assessment rate based on the methodology described in the “Rates for Non-Examined Companies” section, above.

Consistent with Commerce's assessment practice, for entries of subject merchandise during the POR produced by POSCO/PDW, Hyundai Steel, or the non-examined companies for which the producer did not know that its merchandise was destined for the United States, we intend to instruct CBP to liquidate unreviewed entries at the all-others rate, if there is no rate for any intermediate company(ies) involved in the transaction.¹⁰

¹⁰ For a full discussion of this practice, see Antidumping and Countervailing Duty Proceedings: Assessment of Antidumping Duties, 68 FR 23954 (May 6, 2003).

Cash Deposit Requirements

The following cash deposit requirements will be effective upon publication of the notice of final results of this administrative review for all shipments of the subject merchandise entered, or withdrawn from warehouse, for consumption on or after the date of publication, as provided by section 751(a)(2)(C) of the Act: (1) The cash deposit rate for Hyundai, POSCO/PDW, and other companies listed in the final results of review will be equal to the weighted-average dumping margin established in the final results of this administrative review; (2) for merchandise exported by producers or exporters not covered in this review but covered in a prior segment of the proceeding, the cash deposit rate will continue to be the company-specific rate published for the most recently completed segment of this proceeding in which they were reviewed; (3) if the exporter is not a firm covered in this review, or the original investigation, but the producer is, then the cash deposit rate will be the rate established for the most recently completed segment of this proceeding for the producer of the merchandise; (4) the cash deposit rate for all other producers or exporters will continue to be 20.33 percent,¹¹ the all-others rate established in the less-than-fair-value investigation. These cash deposit requirements, when imposed, shall remain in effect until further notice.

¹¹ See Order.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification Regarding Administrative Protective Order

This notice also serves as the only reminder to parties subject to administrative protective order (APO) of their responsibility concerning the disposition of proprietary information disclosed under APO in accordance with 19 CFR 351.305(a)(3), which continues to govern business proprietary information in this segment of the proceeding. Timely written notification of the return/destruction of APO materials or conversion to judicial protective order is hereby requested. Failure to comply with the regulations and the terms of an APO is a sanctionable violation.

Notification to Interested Parties

We are issuing and publishing this notice in accordance with sections 751(a)(1) and 777(i)(1) of the Act.

Dated: July 6, 2020.
Jeffrey I. Kessler,
Assistant Secretary for Enforcement and Compliance.

Appendix

List of Topics Discussed in the Issues and Decision Memorandum

I. Summary

II. Background

III. Scope of the Order

IV. Changes Since the Preliminary Results

V. Rate for Non-Examined Companies

VI. Discussion of the Issues

1. Existence of a Particular Market Situation

2. Quantification of Particular Market Situation Adjustment

3. Applicability of Particular Market Situation Adjustment to Self-Produced Inputs

4. POSCO/PDW CEP Offset

5. Hyundai Manufacturer Codes

VII. Recommendation

[FR Doc. 2020-15051 Filed 7-10-20; 8:45 am]

BILLING CODE 3510-DS-P